Title 3—

The President

Notice of October 24, 2007

Continuation of the National Emergency With Respect to the Situation in or in Relation to the Democratic Republic of the Congo

On October 27, 2006, by Executive Order 13413, I declared a national emergency with respect to the situation in or in relation to the Democratic Republic of the Congo and, pursuant to the International Emergency Economic Powers Act (50 U.S.C. 1701-1706), ordered related measures blocking the property of certain persons contributing to the conflict in that country. I took this action to deal with the unusual and extraordinary threat to the foreign policy of the United States constituted by the situation in or in relation to the Democratic Republic of the Congo, which has been marked by widespread violence and atrocities that continue to threaten regional stability and was addressed by the United Nations Security Council in Resolution 1596 of April 18, 2005, Resolution 1649 of December 21, 2005, and Resolution 1698 of July 31, 2006.

Because this situation continues to pose an unusual and extraordinary threat to the foreign policy of the United States, the national emergency declared on October 27, 2006, and the measures adopted on that date to deal with that emergency, must continue in effect beyond October 27, 2007. Therefore, in accordance with section 202(d) of the National Emergencies Act (50 U.S.C. 1622(d)), I am continuing for 1 year the national emergency declared in Executive Order 13413.

This notice shall be published in the Federal Register and transmitted to the Congress.

THE WHITE HOUSE,

October 24, 2007.

[FR Doc. 07-5375

Filed 10-25-07; 9:45 am]

Billing code 3195-01-P